DEPARTMENT OF COMMERCE

National Oceanic and Atmospheric Administration

[I.D. 022900A]

New England Fishery Management Council; Public Meetings

AGENCY: National Marine Fisheries Service (NMFS), National Oceanic and Atmospheric Administration (NOAA), Commerce

ACTION: Notice of public meeting.

SUMMARY: The New England Fishery Management Council (Council) is scheduling a public meeting of its Groundfish Oversight Committee to consider actions affecting New England fisheries in the exclusive economic zone (EEZ). Recommendations from the committee will be brought to the full Council for formal consideration and action, if appropriate.

DATES: The meeting will be held on March 15, 2000, at 9:30 a.m.

ADDRESSES: The meeting will be held at the Yokens Conference Center, Route 1, Portsmouth, NH 03801; telephone: (603) 433-3338.

Council address: New England Fishery Management Council, 50 Water Street, Mill 2, Newburyport, MA 01950.

FOR FURTHER INFORMATION CONTACT: Paul J. Howard, Executive Director, New England Fishery Management Council; (978) 465-0492.

SUPPLEMENTARY INFORMATION: The committee will focus on the issues associated with the management objectives for Amendment 13 to the Northeast Multispecies Fishery Management Plan (FMP). Amendment 13 will implement stock-rebuilding programs for overfished stocks in the Northeast multispecies fishery as mandated by the Sustainable Fisheries Act, and modify the FMP as the Council deems appropriate based on public comments and analysis of alternative management programs. This meeting will involve a review of current overfishing definitions and control rules for the purpose of specifying management goals for the amendment. The committee will forward its recommendations and any unresolved issues to the Council for consideration at the March 22-23 Council meeting.

Although non-emergency issues not contained in this agenda may come before this committee for discussion, in accordance with the Magnuson-Stevens Fishery Conservation and Management Act, those issues may not be the subject of formal action during this meeting. Action will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 29, 2000.
Richard W. Surdi,
Acting Director, Office of Sustainable Fisheries, National Marine Fisheries Service.

[FR Doc. 00-5220 Filed 3-2-00; 8:45 am]

BILLING CODE 3510-22-F